DEPARTMENT OF ENERGY

Federal Energy Regulatory Commission

Combined Notice of Filings

December 19, 2008.

Take notice that the Commission has received the following Natural Gas Pipeline Rate and Refund Report filings:

Docket Numbers: RP03-323-015.

Applicants: Williston Basin Interstate Pipeline Co.

Description: Williston Basin Interstate Pipeline Co re-files their Fourteenth Revised Sheet 724 to its FERC Gas Tariff, Second Revised Volume 1.

Filed Date: 12/16/2008.

Accession Number: 20081218-0207.

Comment Date: 5 p.m. Eastern Time on Monday, December 29, 2008.

Docket Numbers: RP09-38-001.

Applicants: Sabine Pipe Line LLC.

Description: Sabina Pipe Line, LLC submits Substitute Second Revised Sheet 317 et al. to FERC Gas Tariff, Original Volume 1.

Filed Date: 12/16/2008.

Accession Number: 20081218-0210.

Comment Date: 5 p.m. Eastern Time on Monday, December 29, 2008.

Docket Numbers: RP09-74-001.

Applicants: Gulf South Pipeline Company, LP.

Description: Gulf South Pipeline Co., LP submits Substitute Fourth Revised Sheet 1408 et al. to FERC Gas Tariff, Sixth Revised Volume 1.

Filed Date: 12/16/2008.

Accession Number: 20081218-0209.

Comment Date: 5 p.m. Eastern Time on Monday, December 29, 2008.

Docket Numbers: RP96-200-203.

Applicants: CenterPoint Energy Gas Transmission Co.

Description: CenterPoint Energy Gas Transmission Co submits a corrected Attachment A to a negotiated rate agreement filed with CenterPoint Energy Resources Corp.

Filed Date: 12/16/2008.

Accession Number: 20081218-0208.

Comment Date: 5 p.m. Eastern Time on Monday, December 29, 2008.

Docket Numbers: RP09-159-000.

Applicants: Columbia Gas Transmission, LLC.

Description: Columbia Gas Transmission, LLC submits Original Sheet No. 25C to FERC Gas Tariff, Second Revised Volume No. 1, to be effective 12/15/08.

Filed Date: 12/16/2008.

Accession Number: 20081218-0211.

Comment Date: 5 p.m. Eastern Time on Monday, December 29, 2008.

Docket Numbers: RP09-160-000.

Applicants: Egan Hub Partners, L.P.

Description: Egan Hub Storage, LLC submits Second Revised Sheet No. 2 et al. to FERC Gas Tariff, First Revised Volume No. 1, to be effective 2/1/09.

Filed Date: 12/16/2008.

Accession Number: 20081218-0212.

Comment Date: 5 p.m. Eastern Time on Monday, December 29, 2008.

Docket Numbers: RP09-161-000.

Applicants: Williston Basin Interstate Pipeline Co.

Description: Williston Basin Interstate Pipeline Co submits Fifty-Sixth Revised Sheet 16 et al. to FERC Gas Tariff, Second Revised Volume 1.

Filed Date: 12/16/2008.

Accession Number: 20081218-0206.

Comment Date: 5 p.m. Eastern Time on Monday, December 29, 2008.

Docket Numbers: RP09-162-000.

Applicants: Mojave Pipeline Company.

Description: Mojave Pipeline Co submits Ninth Revised Sheet 202 et al. to FERC Gas Tariff, Second Revised Volume 1.

Filed Date: 12/16/2008.

Accession Number: 20081218-0205.

Comment Date: 5 p.m. Eastern Time on Monday, December 29, 2008.

Docket Numbers: RP09-163-000.

Applicants: El Paso Natural Gas Company.

Description: El Paso Natural Gas Co submits Fourth Revised Sheet 202A.01 et al. to FERC Gas Tariff, Second Revised Volume 1A.

Filed Date: 12/16/2008.

Accession Number: 20081218-0204.

Comment Date: 5 p.m. Eastern Time on Monday, December 29, 2008.

Docket Numbers: RP09-164-000.

Applicants: Colorado Interstate Gas Company.

Description: Colorado Interstate Gas Co. submits Eighth Revised Sheet 17 et al. to FERC Gas Tariff, First Revised Volume 1.

Filed Date: 12/16/2008.

Accession Number: 20081218-0203.

Comment Date: 5 p.m. Eastern Time on Monday, December 29, 2008.

Docket Numbers: RP09-165-000.

Applicants: Young Gas Storage Company, Ltd.

Description: Young Gas Storage Co, Ltd submits Fifth Revised Sheet 9 et al. to FERC Gas Tariff, Original Volume 1, and to be effective 1/15/09.

Filed Date: 12/16/2008.

Accession Number: 20081218-0202.

Comment Date: 5 p.m. Eastern Time on Monday, December 29, 2008.

Docket Numbers: RP09-166-000.

Applicants: Cheyenne Plains Gas Pipeline Company, LLC.

Description: Cheyenne Plains Gas Pipeline Co, LLC submits First Revised Sheet 30 et al. to FERC Gas Tariff, Original Volume 1.

Filed Date: 12/16/2008.

Accession Number: 20081218-0201.

Comment Date: 5 p.m. Eastern Time on Monday, December 29, 2008.

Docket Numbers: RP09-167-000.

Applicants: Wyoming Interstate Company, Ltd.

Description: Wyoming Interstate Co, Ltd submits Third Revised Sheet 5B et al. to FERC Gas Tariff, Second Revised Volume 2, proposed to be effective.

Filed Date: 12/16/2008.

Accession Number: 20081218-0200.

Comment Date: 5 p.m. Eastern Time on Monday, December 29, 2008.

Docket Numbers: RP09-168-000.

Applicants: Maritimes & Northeast Pipeline, L.L.C.

Description: Maritimes & Northeast Pipeline, LLC submits First Revised Sheet 494A to FERC Gas Tariff, First Revised Volume 1, to be effective 1/1/09.

Filed Date: 12/17/2008.

Accession Number: 20081218-0003.

Comment Date: 5 p.m. Eastern Time on Monday, December 29, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-30756 Filed 12-24-08; 8:45 am]

BILLING CODE 6717-01-P